DEPARTMENT OF THE INTERIOR

National Park Service

Notice of Inventory Completion: Slater Museum of Natural History, University of Puget Sound, Tacoma, WA

AGENCY: National Park Service, Interior.

ACTION: Notice.

Notice is here given in accordance with the Native American Graves Protection and Repatriation Act (NAGPRA), 25 U.S.C. 3003, of the completion of an inventory of human remains in the possession of the Slater Museum of Natural History, University of Puget Sound, Tacoma, WA. The human remains were removed from Pierce County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Slater Museum of Natural History, University of Puget Sound professional staff and a consultant in consultation with representatives of the Muckleshoot Indian Tribe of the Muckleshoot Reservation, Washington; Nisqually Indian Tribe of the Nisqually Reservation, Washington; Puyallup Tribe of the Puyallup Reservation, Washington; and Squaxin Island Tribe of the Squaxin Island Reservation, Washington.

In 1933, human remains representing a minimum of two individuals were removed from Day Island in Pierce County, WA. The human remains were found in the Slater Museum collections with a note reading “Day Is., Pierce Co., Wn. Indian remains about 1933. Alcorn. To museum. Round Case.” No known individuals were identified. No associated funerary objects are present.

The postcranial remains were examined by a contracted physical anthropologist who determined they represent one older adult male and one adult female. Ancestry could not be determined due to the lack of cranial remains. However, there have been at least four Native American burials reportedly found by local residents on Day Island since the early 20th century. Based on the likely provenience from museum records and previous finds of Native American burials in that area, officials of the Slater Museum of Natural History, University of Puget Sound, reasonably believe that the human remains are most likely of Native American ancestry.

Day Island is located in the southeastern Puget Sound region, an area historically utilized by the Steilacoom, Puyallup, and Nisqually tribes. While the Indian Claims Commission (ICC) found Day Island to be outside of the exclusive treaty-time territory of any one Native group, both the Nisqually Indian Tribe and Puyallup Tribe of Indians included Day Island within their original land claims presented to the ICC. While there is no known evidence that an ethnographic village was located on Day Island, evidence reviewed by the museum demonstrates Day Island was used as a resource procurement site by the Nisqually and Puyallup Tribes, as well as the Steilacoom people. There are three recorded ethnographic villages located within four miles of Day Island which were occupied by members of the Steilacoom, Puyallup, and Nisqually peoples.

The Steilacoom are a non-federally recognized tribe who were signatories of the Treaty of Medicine Creek (1854) and who were not granted exclusive reservation land. The Nisqually Indian Tribe provided evidence claiming residents of the Steilacoom villages at Clover Creek and Steilacoom (now Chambers) Creek had joined the Nisqually Indian Tribe after the Treaty of Medicine Creek. Evidence also shows that some residents of the Steilacoom Creek village joined the Puyallup Tribe. To the north of Day Island, across the Narrows in Wollochet Bay, was the third closest ethnographic village; this was considered by the ethnographer Marian Smith to be affiliated with the Puyallup Tribe (1941:207). The multiple affiliations of these nearby villages demonstrate joint use and occupation surrounding Day Island. Additionally, Day Island may have been used for burials of Native Americans interned at Fox Island during the Treaty Wars. Members of the Nisqually, Puyallup, Squaxin, and Steilacoom Tribes were reported to have been held there (Carpenter 1987). This evidence, in conjunction with the Indian Claim Commission's determination of the area as non-exclusive to any particular tribe, suggests Day Island is within the traditional territory of all three local groups: the Steilacoom, Nisqually, and Puyallup Tribes. The descendants of the Steilacoom, Nisqually, and Puyallup Tribes are members of the federally-recognized Nisqually Indian Tribe of the Nisqually Reservation, Washington, and Puyallup Tribe of the Puyallup Reservation, Washington.

Officials of the Slater Museum have determined that, pursuant to 25 U.S.C. 3001 (9-10), the human remains described above represent the physical remains of two individuals of Native American ancestry. Officials of the Slater Museum also have determined that, pursuant to 25 U.S.C. 3001 (2), there is a relationship of shared group identity that can be reasonably traced between the Native American human remains and the Nisqually Indian Tribe of the Nisqually Reservation, Washington and Puyallup Tribe of the Puyallup Reservation, Washington.

Representatives of any other Indian tribe that believes itself to be culturally affiliated with the human remains should contact Peter Wimberger, Slater Museum of Natural History, University of Puget Sound, 1500 N. Warner, Tacoma, WA 98416, telephone (253) 879-2784, before July 17, 2008. Repatriation of the human remains to the Nisqually Indian Tribe of the Nisqually Reservation, Washington and Puyallup Tribe of the Puyallup Reservation, Washington may proceed after that date if no additional claimants come forward.

The Slater Museum is responsible for notifying the Muckleshoot Indian Tribe of the Muckleshoot Reservation, Washington; Nisqually Indian Tribe of the Nisqually Reservation, Washington; Puyallup Tribe of the Puyallup Reservation, Washington; and Squaxin Island Tribe of the Squaxin Island Reservation, Washington that this notice has been published.

Dated: May 21, 2008
Sherry Hutt,
Manager, National NAGPRA Program.

[FR Doc. E8-13570 Filed 6-16-08; 8:45 am]

BILLING CODE 4312-50-S